DEPARTMENT OF COMMERCE

International Trade Administration

[A-570-831]

Fresh Garlic From the People's Republic of China: Extension of Time Limit for the Preliminary Results of the 12th Administrative Review

AGENCY: Import Administration, International Trade Administration, Department of Commerce

DATES: Effective Date: August 2, 2007,

FOR FURTHER INFORMATION CONTACT: Julia Hancock or Matthew Renkey, AD/CVD Operations, Office 9, Import Administration, International Trade Administration, U.S. Department of Commerce, 14th Street and Constitution Avenue, NW., Washington, DC 20230; telephone: (202) 482-1394 and (202) 482-2312, respectively.

Background

On December 27, 2006, the Department of Commerce (“Department”) published a notice of initiation of an administrative review of fresh garlic from the People's Republic of China (“PRC”), covering the period November 1, 2005, through October 31, 2006. See Notice of Initiation of Antidumping and Countervailing Duty Administrative Reviews and Requests for Revocation in Part, 71 FR 77720 (December 27, 2006). On April 11, 2007, after receiving quantity and value and separate rate responses, the Department selected the mandatory respondents for this review. Between May 14, 2007, and June 11, 2007, the Department received the initial section A, C and D questionnaire responses from the mandatory respondents. The preliminary results of this administrative review are currently due on August 2, 2007.

Extension of Time Limit for the Preliminary Results

The Department determines that completion of the preliminary results of this review within the statutory time period is not practicable, given the extraordinarily complicated nature of the proceeding. The 12th administrative review covers 19 companies (three mandatory respondents and 16 separate rate respondents), requiring the Department to gather and analyze a significant amount of information pertaining to each company's corporate structure and ownership, sales practices, and manufacturing methods. The Department requires more time within which to complete its analysis. Furthermore, this review involves the extraordinarily complicated intermediate input methodology issue. Lastly, the Department requires additional time to analyze the questionnaire responses and to issue supplemental questionnaires.

Therefore, given the number and complexity of issues in this case, and in accordance with section 751(a)(3)(A) of the Tariff Act of 1930, as amended (“the Act”), we are extending the time period for issuing the preliminary results of review by 120 days until November 30, 2007. The final results continue to be due 120 days after the publication of the preliminary results.

This notice is published pursuant to section 751(a)(3)(A) of the Act and 19 CFR 351.213(h)(2).

Dated: July 23, 2007.
Stephen J. Claeys,
Deputy Assistant Secretary for Import Administration.

[FR Doc. E7-14919 Filed 8-1-07; 8:45 am]

BILLING CODE 3510-DS-P